DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of trade Adjustment Assistance, Employment and Training Administration, has instituted investigations pursuant to Section 221(a) of the Act.

The purpose of each of the investigations is to determine whether the workers are eligible for adjustment assistance under Title II, Chapter 2, of the Act. The investigations will further relate, as appropriate, to the determination of the date on which total or partial separations began or threatened to begin and the subdivision of the firm involved.

The petitioners of any other persons showing a substantial interest in the subject matter of the investigations may request a public hearing, provided such request is filed in writing with the Director, Division of Trade Adjustment Assistance, at the address shown below, not later than April 14, 2003.

Interested persons are invited to submit written comments regarding the subject matter of the investigations to the Director, Division of Trade Adjustment Assistance, at the address shown below, not later than April 14, 2003.

The petitions filed in this case are available for inspection at the Office of the Director, Division of Trade Adjustment Assistance, Employment and Training Administration, U.S. Department of Labor, Room C-5311, 200 Constitution Avenue, NW., Washington, DC 20210.

Signed at Washington, DC this 17th day of March 2003.
Edward A. Tomchick,
Director, Division of Trade Adjustment Assistance.

Appendix
[Petitions instituted between 03/10/2003 and 03/14/2003]
TA-W | Subject firm (petitioners) | Location | Date of institution | Date of petition
51,099 | Allegheny Ludlum (Wkrs) | Houston, PA | 03/10/2003 | 02/27/2003
51,100A | HMH Transportation, Inc (Comp) | Forest Park, GA | 03/10/2003 | 03/03/2003
51,100B | HMH Transportation, Inc (Comp) | Los Angeles, CA | 03/10/2003 | 03/03/2003
51,100 | HMH Transportation Inc. (Comp) | Hazlehurst, GA | 03/10/2003 | 03/03/2003
51,101 | Agilent Technologies (Wkrs) | Fort Collins, CO | 03/10/2003 | 03/05/2003
51,102 | Jeld Wen—Pozzi Window (OR) | Bend, OR | 03/10/2003 | 03/06/2003
51,103 | Toshira America Electronic (OR) | Beaverton, OR | 03/10/2003 | 03/07/2003
51,104 | Johnstown Leather Corporation (UNITE) | Johnstown, NY | 03/10/2003 | 02/26/2003
51,105 | Dinaire, LLC (Comp) | Buffalo, NY | 03/10/2003 | 02/25/2003
51,106 | CertainTeed Corporation (Wkrs) | Nesquehoning, PA | 03/10/2003 | 03/06/2003
51,107 | Halex Company (IBT) | Cleveland, OH | 03/10/2003 | 02/20/2003
51,108 | Defender, Inc./Starr Supporter (Wkrs) | Philadelphia, PA | 03/10/2003 | 02/27/2003
51,109 | MCI Worldcom Network Services (Wkrs) | Hunt Valley, MD | 03/10/2003 | 02/15/2003
51,110 | Moll Industries, Inc. (Wkrs) | Newberg, OR | 03/10/2003 | 03/05/2003
51,111 | General Magnetics Technology, Inc. (Wkrs) | Lake Worth, FL | 03/10/2003 | 02/25/2003
51,112 | Osram Sylvania (Comp) | Maybrook, NY | 03/10/2003 | 02/21/2003
51,113 | Toppan Electronics, Inc. (Comp) | San Diego, CA | 03/10/2003 | 02/25/2003
51,114 | Celestica (Comp) | Fort Collins, CO | 03/10/2003 | 03/07/2003
51,115 | MeadWestvaco Corporation (DWU) | Luke, MD | 03/10/2003 | 03/07/2003
51,116 | Dura Automotive (Wkrs) | Livonia, MI | 03/10/2003 | 02/21/2003
51,117 | Square D Company (Comp) | Asheville, NC | 03/10/2003 | 03/07/2003
51,118 | Electrolux Home Products (Comp) | Edison, NJ | 03/10/2003 | 03/03/2003
51,119 | Worzalla Publishing (Wkrs) | Stevens Point, WI | 03/10/2003 | 03/07/2003
51,120 | Sun Apparel of Texas (Comp) | El Paso, TX | 03/11/2003 | 01/08/2003
51,121 | Mirro Corporation (USWA) | Manitowoc, WI | 03/11/2003 | 02/07/2003
51,122 | Emerson Appliance Controls (Wkrs) | Frankfort, IN | 03/11/2003 | 03/05/2003
51,123 | Spectra—Star (Wkrs) | Yuma, AZ | 03/11/2003 | 03/04/2003
51,124 | Pass and Seymour (Comp) | Concord, NC | 03/11/2003 | 03/06/2003
51,125 | Symantec Corporation (Wkrs) | Beaverton, OR | 03/11/2003 | 03/06/2003
51,126 | Kelly Industries, Inc. (Wkrs) | Eighty Four, PA | 03/11/2003 | 03/05/2003
51,127 | Omega Worldwide, Inc. (MI) | Ann Arbor, MI | 03/11/2003 | 02/14/2003
51,128 | DT Precision Assembly Industries (Wkrs) | Erie, PA | 03/11/2003 | 03/10/2003
51,129 | Cerf Brothers Bag Company (Comp) | Vandalia, MO | 03/11/2003 | 03/10/2003
51,130 | Tyler Refrigeration (UAW) | Waxahachie, TX | 03/11/2003 | 03/07/2003
51,131 | Fishing Vessel (F/V) Raymond Thorson (Comp) | Dillingham, AK | 03/11/2003 | 03/05/2003
51,132 | 4-C's Fisheries (Comp) | Kodiak, AK | 03/11/2003 | 03/06/2003
51,133 | Relizon (Wkrs) | Newark, OH | 03/14/2003 | 03/13/2003
51,134 | Vanity Fair (NC) | Wilson, NC | 03/14/2003 | 03/13/2003
51,135 | Advance USA, LLC (Wkrs) | New Stanton, PA | 03/14/2003 | 03/12/2003
51,136 | Wing-Lynch, Inc. (OR) | Beaverton, OR | 03/14/2003 | 03/12/2003
51,137 | Sasol North America (MD) | Baltimore, MD | 03/14/2003 | 03/13/2003
51,138 | Drexel Heritage, #60 (Wkrs) | Morganton, NC | 03/14/2003 | 03/07/2003
51,139 | Embraer Aircraft Corporation (Wkrs) | Ft. Worth, TX | 03/14/2003 | 03/14/2003
51,140 | Verizon (FL) | Temple Terrace, FL | 03/14/2003 | 03/03/2003
51,141 | Werner Company (USWA) | Greenville, PA | 03/14/2003 | 03/12/2003
51,142 | Vaisala (Wkrs) | Sunnyvale, CA | 03/14/2003 | 12/13/2002
51,143 | Tyco Healthcare Retail Group, Inc. (Comp) | Harmony, PA | 03/14/2003 | 03/13/2003
51,144 | IBM (Wkrs) | McLeansville, NC | 03/14/2003 | 03/03/2003
51,145 | Halliburton Security (USWA) | Dallas, TX | 03/14/2003 | 03/11/2003
51,146 | Garan, Inc. (Wrks) | Church Point, LA | 03/14/2003 | 03/12/2003
51,147 | Manitowoc Boom Trucks (Wkrs) | York, PA | 03/14/2003 | 03/10/2003
51,148 | Torque-Traction Manufacturing (Comp) | Syracuse, IN | 03/14/2003 | 03/25/2003
51,149 | Applied Industrial Technologies (MN) | Cloquet, MN | 03/14/2003 | 03/11/2003
51,150 | Logan Stampings, Inc. (Comp) | Logans Port, IN | 03/14/2003 | 03/11/2003
51,151 | North Star Steel Company (Wkrs) | Kingman, AZ | 03/14/2003 | 03/07/2003
51,152 | Asco Valve Manufacturing (Wrks) | Ft. Mill, SC | 03/14/2003 | 03/01/2003
51,153 | Esteves—DWD, LLC (Comp) | Danville, KY | 03/14/2003 | 03/10/2003
51,154 | Progress Casting Group, Inc. (MN) | Albert Lea, MN | 03/14/2003 | 03/07/2003
51,155 | Buckbee-Mears (Comp) | St. Paul, MN | 03/14/2003 | 03/10/2003
51,156 | Pacific Precision Metals (Comp) | Laverne, CA | 03/14/2003 | 03/11/2003
51,157 | DBM Technologies (MI) | Corunna, MI | 03/14/2003 | 03/10/2003
51,158 | Stewart Apparel, Inc. (Comp) | Greensboro, GA | 03/14/2003 | 03/06/2003
51,159 | Zosel Lumber (WA) | Oroville, WA | 03/14/2003 | 03/11/2003
51,160 | Parkson Corporatioln (FL) | Pompano, FL | 03/14/2003 | 03/11/2003
51,161 | Allura Corporation (UNITE) | Lorane-Reading, PA | 03/14/2003 | 03/04/2003
51,162 | F/V/ J.C. (Comp) | Aleknagik, AK | 03/14/2003 | 03/11/2003
51,163 | F/V Yo Yo (Comp) | Aleknagik, AK | 03/14/2003 | 03/11/2003
51,164 | Melody Lynn (Comp) | Aleknagik, AK | 03/14/2003 | 03/11/2003
51,165 | F/V Jenni Lee (Comp) | Aleknagik, AK | 03/14/2003 | 03/11/2003
51,166 | F/V Double Eagle (Comp) | Dillingham, AK | 03/14/2003 | 03/11/2003
51,167 | Robert Allen (Comp) | Kokiak, AK | 03/14/2003 | 03/08/2003
51,168 | F/V Vaness (Comp) | Kodiak, AK | 03/14/2003 | 03/10/2003
51,169 | Kathleen Lange (Comp) | Homer, AK | 03/14/2003 | 03/13/2003

[FR Doc. 03-7890 Filed 4-1-03; 8:45 am]

BILLING CODE 4510-30-M